DEPARTMENT OF HEALTH AND HUMAN SERVICES

Office of the Secretary

[Document Identifier: OS-0990-0000; 60-day notice]

Agency Information Collection Activities: Proposed Collection; Comment Request

AGENCY: Office of the Secretary.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: New.

Title of Information Collection: Report of Medical Examination)—Form PHS-7059.

Form/OMB No.: 0990-0000.

Use: Health professionals applying to the Commissioned Corps of the U.S. Public Health Service (Corps) must be medically qualified prior to appointment. Applicants must have a healthcare provider/physician complete form PHS-7059, Report of Medical Examination, documenting the health status of the applicant. The Corps Medical Evaluations Officer will review the information to ascertain if the applicant is medically qualified presently and in the near future.

Frequency: One time.

Affected Public: Individuals or Households.

Annual Number of Respondents: 4,000.

Total Annual Responses: 4,000.

Average Burden per Response: 15 minutes.

Total Annual Hours: 1,000 hours.

To obtain copies of the supporting statement and any related forms for the proposed paperwork collections referenced above, e-mail your request, including your address, phone number, OMB number, and OS document identifier, to Sherette.funncoleman@hhs.gov, or call the Reports Clearance Office at (202) 690-6162. Written comments and recommendations for the proposed information collections must be received with 60 days, and directed to the OS Paperwork Clearance Officer at the following address: Department of Health and Human Services, Office of the Secretary, Assistant Secretary for Resources and Technology, Office of Resources Management, Attention: Sherrette Funn-Coleman (0990-0000), Room 537-H, 200 Independence Avenue, SW., Washington DC 20201.

Dated: July 11, 2007.
Seleda Perryman,
Office of the Secretary, Paperwork Reduction Act Reports Clearance Officer.

[FR Doc. E7-14104 Filed 7-20-07; 8:45 am]

BILLING CODE 4150-28-P